DEPARTMENT OF ENERGY

Federal Energy Regulatory Commission

Combined Notice of Filings #1

Take notice that the commission received the following accounting Request filings:

Docket Numbers: AC25-40-000.

Applicants: Madison Gas & Electric Company.

Description: Madison Gas & Electric Company submits Supplement to Proposed Final Accounting Entries re acquisition of certain tenant-in-common interests from Wisconsin Power and Light Company.

Filed Date: 2/19/25.

Accession Number: 20250219-5177.

Comment Date: 5 p.m. ET 3/12/25.

Take notice that the Commission received the following exempt wholesale generator filings:

Docket Numbers: EG25-161-000.

Applicants: Midpoint Solar, LLC.

Description: Midpoint Solar, LLC submits Notice of Self-Certification of Exempt Wholesale Generator Status.

Filed Date: 2/18/25.

Accession Number: 20250218-5328.

Comment Date: 5 p.m. ET 3/11/25.

Docket Numbers: EG25-162-000.

Applicants: 1000 Mile Solar, LLC.

Description: 1000 Mile Solar, LLC submits Notice of Self-Certification of Exempt Wholesale Generator Status.

Filed Date: 2/20/25.

Accession Number: 20250220-5085.

Comment Date: 5 p.m. ET 3/13/25.

Take notice that the Commission received the following electric rate filings:

Docket Numbers: ER10-2437-023.

Applicants: Arizona Public Service Company.

Description: Supplement to December 26, 2024, Triennial Market Power Analysis Southwest Region of Arizona Public Service Company.

Filed Date: 2/20/25.

Accession Number: 20250220-5059.

Comment Date: 5 p.m. ET 4/21/25.

Docket Numbers: ER11-47-016; ER12-1541-014; ER12-1542-014; ER14-594-018; ER20-2000-003; ER21-2556-001; ER17-1930-008; ER12-1540-014; ER12-1544-014; ER17-1931-008; ER17-1932-008; ER20-649-004; ER14-868-005; ER14-867-004; ER19-606-006; ER21-2555-001; ER16-323-013.

Applicants: Ohio Valley Electric Corporation, Martinsville OnSite Generation, LLC, AEP Generation Resources Inc., AEP Energy, Inc., AEP Retail Energy Partners, AEP Energy Partners, Inc., Southwestern Electric Power Company, AEP Texas Inc., Wheeling Power Company, Indiana Michigan Power Company, Public Service Company of Oklahoma, South River OnSite Generation, LLC, Clyde Onsite Generation, LLC, Ohio Power Company, Kingsport Power Company, Kentucky Power Company, Indiana Michigan Power Company, Appalachian Power Company, Ohio Power Company, Kingsport Power Company, Columbus Southern Power Company, Kentucky Power Company, Wheeling Power Company.

Description: Response to 12/17/2024, Deficiency Letter of Appalachian Power Company et al.

Filed Date: 1/16/25.

Accession Number: 20250116-5182.

Comment Date: 5 p.m. ET 3/13/25.

Docket Numbers: ER25-1344-000.

Applicants: Montana-Dakota Utilities Company.

Description: Request for Limited One-Time Waiver of Tariff Provisions of Montana-Dakota Utilities Company.

Filed Date: 2/19/25.

Accession Number: 20250219-5163.

Comment Date: 5 p.m. ET 3/12/25.

Docket Numbers: ER25-1345-000.

Applicants: Midcontinent Independent System Operator, Inc.

Description: § 205(d) Rate Filing: 2025-02-20_SA 3690 Termination of OTP-Minnkota Power FCA (Aneta Tap) to be effective 2/21/2025.

Filed Date: 2/20/25.

Accession Number: 20250220-5044.

Comment Date: 5 p.m. ET 3/13/25.

Docket Numbers: ER25-1346-000.

Applicants: Midcontinent Independent System Operator, Inc.

Description: § 205(d) Rate Filing: 2025-02-20_SA 3720 Termination of OTP-MPC FCA (Bartlett) to be effective 2/21/2025.

Filed Date: 2/20/25.

Accession Number: 20250220-5048.

Comment Date: 5 p.m. ET 3/13/25.

Docket Numbers: ER25-1347-000.

Applicants: PJM Interconnection, L.L.C.

Description: § 205(d) Rate Filing: Original GIA, SA No. 7547; Project Identifier No. AC1-188/AF2-048 to be effective 1/21/2025.

Filed Date: 2/20/25.

Accession Number: 20250220-5070.

Comment Date: 5 p.m. ET 3/13/25.

Docket Numbers: ER25-1348-000.

Applicants: New Madrid Solar, LLC.

Description: § 205(d) Rate Filing: Application for Market-Based Rate Authorization—New Madrid Solar, LLC to be effective 4/22/2025.

Filed Date: 2/20/25.

Accession Number: 20250220-5090.

Comment Date: 5 p.m. ET 3/13/25.

Docket Numbers: ER25-1349-000.

Applicants: Sebree Solar, LLC.

Description: § 205(d) Rate Filing: Application for Market-Based Rate Authorization—Sebree Solar, LLC to be effective 4/22/2025.

Filed Date: 2/20/25.

Accession Number: 20250220-5091.

Comment Date: 5 p.m. ET 3/13/25.

Docket Numbers: ER25-1350-000.

Applicants: PJM Interconnection, L.L.C.

Description: § 205(d) Rate Filing: Original GIA Service Agreement No. 7530: Project Identifier No. AG1-239 to be effective 1/23/2025.

Filed Date: 2/20/25.

Accession Number: 20250220-5100.

Comment Date: 5 p.m. ET 3/13/25.

Docket Numbers: ER25-1351-000.

Applicants: PJM Interconnection, L.L.C.

Description: § 205(d) Rate Filing: Original CSA Service Agreement No. 7531; Project Identifier No. AG1-239 to be effective 1/23/2025.

Filed Date: 2/20/25.

Accession Number: 20250220-5103.

Comment Date: 5 p.m. ET 3/13/25.

Docket Numbers: ER25-1352-000.

Applicants: New York Independent System Operator, Inc.

Description: § 205(d) Rate Filing: NYISO 205: Amended LGIA Riverhead Solar 2 SA2740 (CEII) to be effective 2/12/2025.

Filed Date: 2/20/25.

Accession Number: 20250220-5104.

Comment Date: 5 p.m. ET 3/13/25.

Docket Numbers: ER25-1354-000.

Applicants: Arizona Public Service Company.

Description: Compliance filing: Order No. 904 Compliance Filing to be effective 4/22/2025.

Filed Date: 2/20/25.

Accession Number: 20250220-5111.

Comment Date: 5 p.m. ET 3/13/25.

Docket Numbers: ER25-1355-000.

Applicants: PJM Interconnection, L.L.C.

Description: § 205(d) Rate Filing: Original CSA Service Agreement No. 7532; Project Identifier No. AG1-239 to be effective 1/23/2025.

Filed Date: 2/20/25.

Accession Number: 20250220-5112.

Comment Date: 5 p.m. ET 3/13/25.

Docket Numbers: ER25-1356-000.

Applicants: Daggett Solar Power 1 LLC.

Description: Initial rate filing: Market-Based Rate Application and Request for Waivers and Blanket Approvals to be effective 4/13/2025.

Filed Date: 2/20/25.

Accession Number: 20250220-5113.

Comment Date: 5 p.m. ET 3/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 20, 2025.
Carlos D. Clay,
Deputy Secretary.

[FR Doc. 2025-03108 Filed 2-25-25; 8:45 am]

BILLING CODE 6717-01-P